DEPARTMENT OF ENERGY

Federal Energy Regulatory Commission

[Docket No. PF07-12-000]

Dominion Transmission, Inc.; Amended Notice of Intent To Prepare an Environmental Assessment for the Proposed Storage Factory Project, Request for Comments on Environmental Issues, and Notice of Public Scoping Meetings and Site Visit

May 22, 2008.

As previously noticed on January 18, 2008, and amended herein, the staff of the Federal Energy Regulatory Commission (FERC or Commission) will prepare an environmental assessment (EA) that will discuss the environmental impacts of the Storage Factory Project, involving construction and operation of facilities by Dominion Transmission, Inc. (Dominion) in Tioga County, Pennsylvania and Frederick County, Maryland. The EA will be used by the Commission in its decisionmaking process to determine whether the project is in the public convenience and necessity.

This notice announces the opening of a third scoping period (due to changes in the project design) that will be used to gather environmental input from the public and interested agencies on the project. Your input will help the Commission staff determine which issues need to be evaluated in the EA. Please note that the scoping period will close on June 23, 2008.

Comments may be submitted in written or verbal form. Further details on how to submit written comments are provided in the Public Participation section of this notice. In lieu of sending written comments, you may choose to attend the public scoping meeting scheduled as follows:

Date and time | Location
Thursday, June 19, 2008, 7 p.m. to 9 p.m. (EDT) | Jefferson Ruritan Center, Lander Road at Route 340, Jefferson, Maryland, Telephone: (301) 473-8753.

This notice is being sent to landowners of property within 0.5 mile of the planned Jefferson Compressor Station site; interested stakeholders who attended the Open House held by Dominion on May 7, 2008 and provided their address; interested stakeholders of the alternative compressor station site near Middletown; Federal, state, and local government representatives and agencies; environmental and public interest groups; Native American tribes; other interested parties in this proceeding; and local libraries and newspapers. We ¹ encourage government representatives to notify their constituents of this planned project and encourage them to comment on their areas of concern.

¹ “We” “us” and “our” refer to the environmental staff of the Office of Energy Projects, part of the Commission staff.

If you are a landowner receiving this notice, you may be contacted by a Dominion representative about the acquisition of an easement to construct, operate, and maintain the proposed project facilities. The pipeline company would seek to negotiate a mutually acceptable agreement. However, if the project is approved by the Commission, that approval conveys with it the right of eminent domain. Therefore, if easement negotiations fail to produce an agreement, Dominion could initiate condemnation proceedings in accordance with state law.

A fact sheet prepared by the FERC entitled “An Interstate Natural Gas Facility on My Land? What Do I Need to Know?” addresses a number of typically-asked questions, including the use of eminent domain and how to participate in the Commission's proceedings. It is available for viewing on the FERC Internet Web site (http://www.ferc.gov).

Summary of the Proposed Project

On August 29, 2007 and January 18, 2008, we issued two separate Notice of Intent to Prepare an Environmental Assessment for the Proposed Storage Factory Project, Request for Comments on Environmental Issues, and Notice of Public Scoping Meetings and Site Visit (NOI). Since the January 18 NOI, Dominion has changed the preferred location for its compressor station located in Frederick County, Maryland. The current configuration of the planned facilities is detailed below.

The Storage Factory Project would involve leaching two caverns in a Pennsylvania salt formation for the storage of natural gas. The project consists of constructing leaching/pumping facilities, a brine processing facility, water and brine pipelines, and a new compressor station for gas storage injection/withdrawal purposes in Tioga County, Pennsylvania. Alternative water sources for leaching the caverns are also being investigated. Dominion is also proposing piping upgrades to its existing Sabinsville Storage Pool in Tioga County. In addition, Dominion had originally proposed construction of a new 14,000-horsepower compressor station located off Marker Road approximately 2 miles west of Middletown in Frederick County, Maryland. However, based on the environmental issues which were identified during the scoping process, Dominion determined that the Middletown location is no longer preferred. Dominion is now evaluating construction of a new 15,000-horsepower compressor station at a location about 2 miles west of Jefferson, Maryland and bounded by Route 180 (Jefferson Pike), U.S. Route 340, and Gene Hemp Road.

Dominion anticipates filing an application with the FERC after September 2008 and to seek the Commission's approval in time to begin construction by August 2009, with a proposed in-service date for the first storage cavern of August 2014.

Project location maps are included in Appendix A.²

² The appendices referenced in this notice are not being printed in the Federal Register. Copies of all appendices are available on the Commission's Web site at the “eLibrary” link or from the Commission's Public Reference Room, 888 First Street, NE., Washington, DC 20426, or call (202) 502-8371. For instructions on connecting to eLibrary, refer to the “Additional Information” section of this notice. Copies of the appendices were sent to all those receiving this notice in the mail. Requests for detailed maps of the proposed facilities should be made directly to Dominion.

Land Requirements for Construction

The Storage Factory Project is in the preliminary planning stage. The precise facility design, pipeline route, rights-of-way, compressor station locations, and other details have not yet been finalized. Specific information on the location of the various project elements will be made available to the public when it is finalized.

Construction of the planned project would affect a total of about 175.6 acres during construction. Following construction, about 80.5 acres would be allowed to revert to its previous conditions and uses. Disturbance associated with aboveground facilities would permanently impact approximately 49.5 acres of land. This includes the compressor station which would be located on approximately 8 acres within a 13.5 acre site that Dominion is seeking to acquire near Jefferson in Frederick County, Maryland. The land is currently used for agriculture.

Dominion plans to construct the pipelines associated with the Sabinsville Storage Pool in existing rights-of-way and would seek a construction right-of-way width varying between 100 feet and 75 feet for the pipelines associated with the leaching and gas storage areas in Pennsylvania.

The EA Process

For this project, the FERC staff has initiated its National Environmental Policy Act (NEPA) review prior to receiving an application. The purpose of the Commission's Pre-Filing Process is to involve interested stakeholders early in project planning and to identify and attempt to resolve issues before an application is filed with the FERC. A docket number (PF07-12-000) has been established to place information filed by Dominion, and related documents issued by the Commission, into the public record. Once a formal application is filed with the FERC, a new docket number will be established. The FERC will be the lead federal agency for the preparation of the EA which will satisfy the requirements of NEPA.

NEPA requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, we are requesting public comments on the scope of the issues that should be addressed in the EA. We will consider all comments received during scoping in the preparation of the EA.

Our independent analysis and evaluation of the issues will be presented in the EA. The EA will also include possible alternatives to the proposed project or portions of the project, and we will make recommendations on how to lessen or avoid impacts on the various resource areas of concern. Depending on the comments received during the scoping process, the EA may be published and mailed to Federal, state, and local agencies; elected officials; environmental and public interest groups; other interested parties; affected landowners; Native American tribes; libraries and newspapers in the project area; and the Commission's official service list for this proceeding. A 30-day comment period will be allotted for review of the EA. We will consider all comments submitted on the EA in any Commission Order that is issued for the project.

We are currently involved in discussions with other jurisdictional agencies to identify their issues and concerns. These agencies include the U.S. Army Corps of Engineers; U.S. Fish and Wildlife Service; Maryland Department of Natural Resources; Frederick County; and Susquehanna River Basin Commission.

By this notice, we are asking these and other Federal, state, and local agencies with jurisdiction and/or special expertise with respect to environmental issues to formally cooperate with us in the preparation of the EA. Agencies that would like to request cooperating status should follow the instructions for filing comments provided below.

Currently Identified Environmental Issues

The EA will discuss impacts that could occur as a result of the construction and operation of the proposed project. We have already identified several issues that we think deserve attention based on a preliminary review of the entire project site (both Maryland and Pennsylvania portions) and the facility information provided by Dominion. This preliminary list of issues and potential impacts may change based on your comments and our analysis.

• Impacts on perennial and intermittent streams and waterbodies.

• Evaluation of temporary and permanent impacts on wetlands and development of appropriate mitigation.

• Effect on federally and state-listed species.

• Impacts on existing land uses.

• Visual impacts of the aboveground facilities on surrounding areas.

• Impacts on local air and noise quality associated with construction and operation.

• Impacts on cultural resources.

• Impacts on groundwater.

• Public safety and potential hazards associated with the transport of natural gas and the proposed compressor facilities.

Public Participation

You can make a difference by providing us with your specific comments or concerns about the project. By becoming a commenter, your concerns will be addressed in the EA and considered by the Commission. Your comments should focus on the potential environmental effects of the proposal, reasonable alternatives to the proposal (including alternative locations and routes), and measures to avoid or lessen environmental impact. The more specific your comments, the more useful they will be. If you have already mailed comments in response to the initial NOI for this project, your comments will still be considered and you do not need to resubmit your comments. Please carefully follow these instructions to ensure that your comments are received in time and properly recorded:

• Send an original and two copies of your letter to: Kimberly D. Bose, Secretary, Federal Energy Regulatory Commission, 888 First Street, NE., Room 1A, Washington, DC 20426;

• Label one copy of the comments for the attention of Gas Branch 1;

• Reference Docket No. PF07-12-000;

• Mail your comments so that they will be received in Washington, DC on or before June 23, 2008.

Please note that the Commission strongly encourages electronic filing of any comments. See 18 Code of Federal Regulations 385.2001(a)(1)(iii) and the instructions on the Commission's Internet Web site at http://www.ferc.gov under the link to “Documents and Filings” and “eFiling.” eFiling is a file attachment process and requires that you prepare your submission in the same manner as you would if filing on paper, and save it to a file on your hard drive. New eFiling users must first create an account by clicking on “Sign up” or “eRegister.” You will be asked to select the type of filing you are making. This filing is considered a “Comment on Filing.” In addition, there is a “Quick Comment” option available, which is an easy method for interested persons to submit text only comments on a project. The Quick-Comment User Guide can be viewed at http://www.ferc.gov/docs-filing/efiling/quick-comment-guide.pdf. Quick Comment does not require a FERC eRegistration account; however, you will be asked to provide a valid e-mail address. All comments submitted under either eFiling or the Quick Comment option are placed in the public record for the specified docket. If you want to be kept on our environmental mailing list, you must provide an address along with your comment.

The public scoping meeting (date, time, and location is listed above) is designed to provide state and local agencies, interested groups, affected landowners, and the general public with another opportunity to offer environmental comments on the project. Interested groups and individuals are encouraged to attend the meeting and to present comments on the environmental issues they believe should be addressed in the EA. A transcript of the meeting will be made so that your comments will be accurately recorded.³

³ We previously held a public scoping meeting on September 18, 2007, in Lawrenceville, Pennsylvania, to gather comments on Dominion's planned facilities in Pennsylvania and on February 6, 2008, in Middletown, Maryland, to gather comments on siting Dominion's planned compressor station near Middletown.

All public meetings will be posted on the Commission's calendar located at http://www.ferc.gov/EventCalendar/EventsList.aspx along with other related information.

Once Dominion formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time; you must wait until a formal application is filed with the Commission.

Site Visit

On June 19, 2008, the Office of Energy Projects (OEP) staff will visit the planned Jefferson Compressor Station site near Jefferson, Maryland. Staff will tour this area by automobile and on foot. Representatives of Dominion will accompany the OEP staff.

All interested parties may attend the site visit. Those planning to attend must provide their own transportation. If you are interested in attending the site visit, please meet us at 12 p.m. EDT at the planned Jefferson Compressor Station Site. The directions to the location of the planned Jefferson Compressor Station are as follows:

From the East (Frederick, MD)

• Travel west on MD Route 340 to exit 8 (Jefferson—Lander Road);

• Turn right on Lander Road and travel 0.2 miles north to MD Route 180 (Jefferson Pike);

• Turn left on MD Route 180 (Jefferson Pike) and travel west approximately 2 miles;

• Existing Dominion Jefferson Metering & Regulation Station and planned project site on left.

From West (Harpers Ferry, WV)

• Travel east on MD Route 340 to exit 4 (MD Route 180—Jefferson Pike);

• Turn left on MD Route 180 (Jefferson Pike) and travel east approximately 0.8 miles;

• Existing Dominion Jefferson Metering & Regulation Station and planned project site on right.

For additional information, please contact the Commission's Office of External Affairs at 1-866-208-FERC (3372).

Environmental Mailing List

An effort is being made to send this notice to all individuals, organizations, and government entities interested in and/or potentially affected by the proposed project in Maryland. This includes all landowners who are potential right-of-way grantors, whose property may be used temporarily for project purposes, or who own homes within distances defined in the Commission's regulations of certain aboveground facilities. If you do not return the attached form (appendix B), you will be removed from the Commission's environmental mailing list. All individuals who provide written comments (if using quick comment, you must supply an address), attend the scoping meeting, or return the “Keep on Mailing List Form” will remain on our environmental mailing list for this project.

Any individual who participated in the prior scoping periods will also remain on our mailing list and does not need to mail back the enclosed “Keep on Mailing List Form”. This includes those who already have:

• Mailed comments to FERC;

• Mailed the “Keep on the Mailing List Form”; or

• Attended the scoping meeting in Lawrenceville, Pennsylvania on September 18, 2007, or the scoping meeting in Middletown, Maryland on February 6, 2008.

Additional Information

Additional information about the project is available from the Commission's Office of External Affairs at 1-866-208 FERC (3372) or on the FERC Internet Web site (http://www.ferc.gov). Using the “eLibrary” link, select “General Search” from the eLibrary menu, enter the selected date range and “Docket Number” excluding the last three digits (i.e., PF07-12), and follow the instructions. For assistance with access to eLibrary, the helpline can be reached at 1-866-208-3676, TTY (202) 502-8659, or at FERCOnlineSupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, Dominion has established an Internet Web site for this project at http://www.dom.com/about/gas-transmission/storage/index.jsp. The Web site includes a project overview, status, and answers to frequently-asked questions. You can also request additional information by calling Dominion at 1-888-882-5055.

Kimberly D. Bose,
Secretary.

[FR Doc. E8-12140 Filed 5-30-08; 8:45 am]

BILLING CODE 6717-01-P